DEPARTMENT OF ENERGY

Federal Energy Regulatory Commission

[Docket Nos. CP04-223-000, CP04-293-000, and CP04-358-000]

KeySpan LNG, L.P., Algonquin Gas Transmission, L.L.C.; Notice Of Availability Of The Draft Environmental Impact Statement For The Proposed Keyspan LNG Facility Upgrade Project

November 30, 2004.

The staff of the Federal Energy Regulatory Commission (Commission) has prepared a draft Environmental Impact Statement (EIS) on the liquefied natural gas (LNG) facility upgrade and natural gas pipeline facilities proposed by KeySpan LNG, L.P., (KeySpan LNG) and Algonquin Gas Transmission, L.L.C., (Algonquin) in the above-referenced dockets (collectively referred to as the KeySpan LNG Facility Upgrade Project).

The draft EIS was prepared to satisfy the requirements of the National Environmental Policy Act. The staff concludes that if the project is constructed and operated in accordance with appropriate mitigating measures as recommended, and if the facility can be brought into compliance with current federal safety regulations, approval of the proposed project would have limited adverse environmental impact. The draft EIS also evaluates alternatives to the proposal, including system alternatives, alternative sites for the LNG import terminal, and pipeline alternatives, and requests comments on them.

The proposed facility upgrade would convert the existing KeySpan LNG storage facility to an LNG terminal capable of receiving marine deliveries, increase the facility's existing vaporization capacity from 150 million cubic feet per day (MMcfd) to 525 MMcfd, augment the supply of LNG to fill the region's LNG storage facilities to meet peak day needs, and provide 375 MMcfd of new, firm, reliable baseload supply of natural gas to Rhode Island and the New England region. In order to provide LNG import and pipeline transportation services, KeySpan LNG requests Commission authorization to upgrade its existing LNG facility and abandon certain facilities that would be replaced by the upgrade; and Algonquin requests Commission authorization to construct, own, and operate natural gas pipeline facilities. The draft EIS evaluates whether the existing peak shaving facility converted into a marine import terminal would comply with the current federal safety standards.

The draft EIS addresses the potential environmental effects of the construction and operation of the following LNG and natural gas pipeline facilities:

• A ship unloading facility with a single berth capable of receiving LNG ships with cargo capacities of 71,500 to 145,000 cubic meters (m³);

• Two 16-inch-diameter liquid unloading arms and a 24-inch-diameter liquid unloading line from the arms to the LNG storage tank;

• Two vapor return blowers, a 12-inch-diameter vapor arm, and an 8-inch-diameter vapor return line;

• Four boil-off-gas compressors and a boil-off gas condenser;

• A two-stage LNG pumping system;

• An indirect fired vaporizer system with a capacity of 375 MMcfd;

• Operations control buildings;

• Ancillary utilities and LNG facilities;

• A 1.44-mile-long 24-inch-diameter natural gas pipeline;

• A receipt point meter station and 30-inch-diameter pig launcher; and

• A 24-inch-diameter tap valve and 30-inch-diameter pig receiver at the point where the new pipeline would tie into Algonquin's existing G-12 Lateral pipeline system.

Comment Procedures and Public Meetings

Any person wishing to comment on the draft EIS may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First St., NE., Room 1A, Washington, DC 20426;

• Reference Docket No. CP04-223-000, et al.;

• Label one copy of your comments for the attention of Gas Branch 1, PJ-11.1; and

• Mail your comments so that they will be received in Washington, DC on or before January 24, 2005.

Please note that the Commission strongly encourages electronic filing of any comments or interventions to this proceeding. See 18 CFR 385.2001(a)(1)(iii) and the instructions on the Commission's Web site at http://www.ferc.gov under the “e-Filing” link and the link to the User's Guide. Prepare your submission in the same manner as you would if filing on paper and save it to a file on your hard drive. Before you can file comments you will need to create a free account, which can be created by clicking on “Login to File” and then “New User Account.”

In addition to or in lieu of sending written comments, we invite you to attend the public comment meetings we will conduct in the project area. We will announce in a future notice the location and time of the local public meetings to receive comments on the draft EIS. These meetings will be posted on the Commission's calendar located at http://www.ferc.gov/EventCalendar/EventsList.aspx along with other related information. Interested groups and individuals are encouraged to attend and present oral comments on the draft EIS. Transcripts of the meetings will be prepared.

After these comments are reviewed, any significant new issues are investigated, and modifications are made to the draft EIS, a final EIS will be published and distributed by the staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214).

Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for distribution and public inspection at: Federal Energy Regulatory Commission, Public Reference Room, 888 First Street, NE., Room 2A, Washington, DC 20426; (202) 502-8371.

A limited number of copies are available from the Public Reference Room identified above. In addition, copies of the draft EIS have been mailed to Federal, State, and local agencies; public interest groups; individuals and affected landowners who requested a copy of the draft EIS; libraries; newspapers; and parties to this proceeding.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E4-3497 Filed 12-6-04; 8:45 am]

BILLING CODE 6717-01-P